DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Local Update of Census Addresses Operation.

OMB Control Number: 0607-XXXX.

Form Number(s): D-2001—Contact Information Update Form, D-2001-SP—Contact Information Update Form (Spanish), D-2002—Registration Form, D-2002-SP—Registration Form (Spanish), D-2003—Product Preference Form, D-2003-SP—Product Preference Form (Spanish), D-2003-SG-GIS Preference/County Selection Form (State Governments), D-2004—Confidentiality and Security Guidelines, D—2004-SP—Confidentiality and Security Guidelines (Spanish), D-2005—Confidentiality Agreement Form, D-2005-SP—Confidentiality Agreement Form (Spanish), D-2006—Self-Assessment Security Checklist, D-2006-SP—Self-Assessment Security Checklist (Spanish), D-2007—Address List, D-2007-SP—Address List (Spanish), D-2008—Address List Add Page, D-2008-SP—Address List Add Page (Spanish), D-2009—Address Count List, D-2009-SP—Address Count List (Spanish), D-2010—Map Sheet to Block Number Relationship List, D-2010-SP—Map Sheet to Block Number Relationship List (Spanish), D-2011—Inventory Return Form, D-2011-SP—Inventory Return Form (Spanish), D-2012—Destruction or Return Form, and D-2012-SP—Destruction or Return Form (Spanish).

Type of Request: Regular Submission.

Number of Respondents: 40,000.

Average Hours per Response: 21 hours on average; will vary by number of addresses associated with government.

Burden Hours: 845,600.

Needs and Uses: The U.S. Census Bureau developed the Local Update of Census Addresses Operation (LUCA) prior to the 2000 Census to meet the requirements of the Census Address List Improvement Act of 1994, Public Law 103-430. The Census Bureau will use information collected through LUCA to help develop the housing unit and group quarters (e.g., college dormitory, nursing home, correctional facility) address information that it will need to conduct the decennial census. LUCA is voluntary for governmental units. Participating governments may review the Census Bureau's Title 13 U.S.C. confidential list of individual living quarters addresses and provide to the Census Bureau address additions, corrections, deletions, and location coordinates (latitude/longitude). Participating governments also may provide spatial and attribute updates for roads. Governments electing to participate in LUCA also provide contact information, certification of their agreement to maintain the confidentiality of the Census Bureau address information, responses regarding their physical and information technology security capability, product media preference information, shipment inventory information, and certification of their destruction or return of materials containing confidential data.

LUCA will be available to tribal, state, and local governments, the District of Columbia, and Puerto Rico (or their designated representatives) in areas for which the Census Bureau performs a pre-census Address Canvassing Operation. A majority of governments will have some area that will be included in the Address Canvassing Operation. LUCA is available to legally defined federally recognized Native American and Alaska Native areas (including the Alaska Native Regional Corporations), states, governmentally active counties and equivalent entities, incorporated places, and legally defined Minor Civil Divisions (MCDs) for which the Census Bureau reports data. LUCA will occur between January 2017 and June 2020. LUCA comprises five stages:

• Advance Notice

• Invitation

• Address Review

• Feedback

• Closeout

Advance Notice

The Census Bureau provides an advance notice package to all eligible tribal, state, and local governments. This package contains materials informing the eligible governments of the voluntary LUCA operation and provides instructions to update contact information and how to prepare to participate in LUCA. This stage occurs between January 2017 and March 2017.

Invitation

All eligible tribal, state, and local governments receive an invitation package. This package provides information on how to register for the operation, instructions on how to designate a liaison, and enables governments to select the type of materials. Additionally, the invitation package provides information regarding the responsibility for safeguarding and protecting Title 13 materials. The Census Bureau will follow up and send reminder packages to governments that do not respond. This stage occurs between July 2017 and September 2017.

Address Review

Governments that elect to participate receive materials based on their selection from the invitation package. Governments have a maximum of 120 days from the date of receipt of materials to complete and submit their address and spatial updates to the Census Bureau. The Census Bureau will conduct follow up with letters, postcards, and phone calls to encourage timely submission of address and spatial updates. This stage occurs between February 2018 and May 2018.

Feedback

The Census Bureau will provide a feedback package to governments that participate in LUCA. This package includes detailed information on the results of the address and spatial updates submitted during LUCA. This stage occurs between August 2019 and October 2019.

Closeout

The Census Bureau provides a closeout letter to governments that participated in LUCA with notification to destroy or return Title 13 materials. The Census Bureau will also conduct follow up with letters and phone calls to ensure that Title 13 materials are destroyed or returned. This stage occurs between October 2019 and June 2020.

The information on LUCA contacts, certification of agreement to maintain the confidentiality of the Census Bureau address information, physical and information technology security capability, product media preference, shipment inventory, and certification of the destruction or return of materials containing confidential data is collected via the completion of electronic or printed forms.

Address Updates

Information collection for living quarters address additions, corrections, deletions, and address attribute updates, at the participating government's preference, can be submitted in the form of:

1. Digital data files output by the Geographic Update Partnership Software (GUPS), a desktop application supplied free-of-charge to LUCA participants to facilitate the review and update of Census Bureau address and map information;

2. Digital data files formatted to Census Bureau specifications; or

3. Handwritten annotations to Census Bureau-provided printed-paper address listings and address locations on Census Bureau-provided block maps (limited to governments with 6,000 or fewer addresses).

Feature Updates

Information collection for living quarter location coordinates (latitude/longitude), roads, and road attribute updates, at the participating government's preference, can be submitted in the form of:

1. Digital data shapefiles output by GUPS;

2. Digital updates to Census Bureau supplied shapefiles; or

3. Handwritten annotations on Census Bureau supplied paper maps.

Affected Public: Tribal, state, and local governments.

Frequency: LUCA occurs once a decade. Public Law 103-430 mandates that the Census Bureau offer LUCA prior to each decennial census.

Respondent's Obligation: Voluntary.

Legal Authority: Title 13 U.S.C., Chapter 1, Subchapter 1, Section 16.

This information collection request may be viewed at www.reginfo.gov. Follow the instructions to view Department of Commerce collections currently under review by OMB.

Written comments and recommendations for the proposed information collection should be sent within 30 days of publication of this notice to OIRA_Submission@omb.eop.gov or fax to (202) 395-5806.

Sheleen Dumas,
PRA Departmental Lead, Office of the Chief Information Officer.

[FR Doc. 2016-26778 Filed 11-4-16; 8:45 am]

BILLING CODE 3510-07-P